DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 11, 2024.

ADDRESSES: Record Center, Pipeline and Hazardous Materials Safety Administration U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on August 2, 2024.
Donald P. Burger,
Chief, General Approvals and Permits Branch.

Special Permits Data—Granted
Application | Applicant | Regulation(s) affected | Nature of the Special Permits thereof
15322-M | Hexagon Digital Wave LLC | 172.203(a), 172.301(c), 173.302a, 180.205, 180.209, 180.213 | To modify the special permit to authorize agents of Hexagon Digital Wave, LLC to perform inspection and testing of cylinders.
20396-M | Hexagon Digital Wave LLC | 180.205(g) | To modify the special permit to authorize agents of Hexagon Digital Wave, LLC to perform inspection and testing of cylinders.
21380-M | Tesla, Inc | 173.21(c), 173.185(b)(1), 173.185(b)(2)(iii), 173.185(b)(4)(ii) | To modify the special permit to authorize an additional energy storage system.
21408-M | GFS Chemicals, Inc | 173.158(f)(3) | To modify the special permit to authorize an alternative manufacturer for the 500 mL and 2.5 L inner packagings.
21640-M | Mark Rite Lines Equipment Company, Inc | 173.5a(c)(2)(ii) | To modify the special permit to authorize an additional hazardous material.
21708-M | Loft Orbital Solutions Inc | 173.27(b)(2), 173.301(f), 173.302a, 173.304a, 171.23(a)(2)(iv) | To modify the special permit to authorize additional outer packagings.
21736-N | Woodward FST Inc | 178.705(d) | To authorize the transportation in commerce of metal intermediate bulk containers that are smaller than the minimum 450 L size requirement.
21745-N | Exosent Engineering, LLC | 173.315 | To authorize the manufacture, mark, sale, and use of non-DOT specification cargo tanks that conform with all regulations applicable to a DOT Specification 331 except that they are manufactured to ASME Section XII and stamped with a “T” Stamp.
21750-N | New Leaf, LLC | 173.166 | To authorize the transportation in commerce of recalled airbag inflators or modules from storage facilities to facilities for the purpose of collection, processing, and disposal.
21754-N | Little Kamper, L. P | 173.157(a), 173.157(b) | To authorize the transportation in commerce of used 16-ounce DOT Specification 4BA240 cylinders containing the hazardous materials identified in paragraph 6. in accordance with the reverse logistics provisions of § 173.157 and the conditions stated herein.
21773-N | Kidde Technologies Inc | 172.203(a), 172.301(c), 173.309(c) | To authorize the transportation in commerce of certain Division 2.2 materials in non-DOT specification cylinders.
21783-N | J & M Alaska Air Tours, Inc | 172.101(j), 175.310(c) | To authorize the transportation in commerce of certain Class 3 fuels in non-DOT specification bulk packaging aboard cargo-only aircraft to remote areas of Alaska
21793-N | Space BD Inc | 173.185(a)(1) | To authorize the transportation in commerce of prototype and low production lithium ion batteries contained in equipment.
21798-N | Korean Air Lines Co., Ltd | 172.101(j), 175.30(a)(1) | To authorize the transportation in commerce of certain explosives that are forbidden for transportation aboard cargo-only aircraft.
21804-N | Lucid USA, Inc | 172.101(j), 173.220(d), 173.185(a)(1), 173.185(b)(6) | To authorize the transportation of low production lithium ion batteries exceeding 35 kg and battery-powered vehicles containing low production lithium ion batteries aboard cargo-only aircraft.
21815-N | HeliService USA | 172.204(c)(3), 172.101(j), 173.27(b)(2), 175.75(b), 175.30(a)(1) | To authorize the transportation in commerce of certain Class 1 materials by 14 CFR Part 133 cargo-only aircraft (rotorcraft external load operations) that transport hazardous materials attached to or suspended from the aircraft.

Special Permits Data—Denied
Application No. | Applicant | Regulation(s) affected | Nature of the Special Permits thereof

Special Permits Data—Withdrawn
Application No. | Applicant | Regulation(s) affected | Nature of the Special Permits thereof

[FR Doc. 2024-17921 Filed 8-9-24; 8:45 am]

BILLING CODE P